ENVIRONMENTAL PROTECTION AGENCY

[ER-FRL-9030-4]

Environmental Impact Statements; Notice of Availability

Responsible Agency: Office of Federal Activities, General Information (202) 564-7146 or http://www.epa.gov/nepa

Weekly receipt of Environmental Impact Statements

Filed 11/14/2016 Through 11/18/2016

Pursuant to 40 CFR 1506.9.

Notice

Section 309(a) of the Clean Air Act requires that EPA make public its comments on EISs issued by other Federal agencies. EPA's comment letters on EISs are available at: http://www.epa.gov/compliance/nepa/eisdata.html.

EIS No. 20160273, Final, FHWA, FL, SR 87 Connector, Contact: Joseph Sullivan 850-553-2248.

Under 49 U.S.C. 304a(b), FHWA has issued a Final EIS and ROD. Therefore, the 30-day wait/review period under NEPA does not apply to this action.

EIS No. 20160274, Draft, FHWA, NY, NYS Route 198 (Scajaquada Expressway) Corridor Project, Comment Period Ends: 01/25/2017, Contact: Peter Osborn 518-431-4127.

EIS No. 20160275, Draft Supplement, USFS, WA, Pack and Saddle Stock Outfitter-Guide Special Use Permit Issuance, Comment Period Ends: 01/09/2017, Contact: Jennifer Zbyszewski 509-996-4021.

EIS No. 20160276, Final, FRA, MD, Baltimore and Potomac Tunnel, Review Period Ends: 12/27/2016, Contact: Brandon Bratcher 202-493-0844.

EIS No. 20160277, Final, USCG, LA, Port Delfin Project Deepwater Port Application, Review Period Ends: 01/12/2017, Contact: Roddy C. Bachman 202-372-1451.

EIS No. 20160278, Final, BLM, OR, Proposed Land use Plan Amendment for the Boardman to Hemingway Transmission Line Project, Review Period Ends: 12/25/2016, Contact: Tamara Gertsch 307-775-6115

EIS No. 20160279, Final, BOEM, LA, Outer Continental Shelf Oil and Gas Leasing Program: 2017-2022, Review Period Ends: 12/27/2016, Contact: Dr. Jill Lewandowski 703-787-1703

EIS No. 20160280, Adoption, USFWS, NAT, ADOPTION—Programmatic—Habitat Restoration Activities Implemented Throughout the Coastal United States, Review Period Ends: 12/27/2016, Contact: Peter Barlow 703-358-2119

The U.S. Department of the Interior's Fish and Wildlife Service is adopting the U.S. Department of Commerce's National Oceanic and Atmospheric Agency's Final EIS #20150171, filed with EPA on 06/11/2015. The USFWS was not a cooperating agency. Therefore, recirculation of the EIS is necessary under Section 1506.3(b) of the CEQ Regulations.

EIS No. 20160281, Draft, USFS, CO, Snowmass Multi-Season Recreation Projects, Comment Period Ends: 01/11/2017, Contact: Roger Poirier 970-945-3245

EIS No. 20160282, Final Supplement, USFWS, HI, Na Pua Makani Wind Project and Habitat Conservation Plan, Review Period Ends: 01/03/2017, Contact: Jodi Charrier 808-792-9400

Amended Notices

EIS No. 20160256, Draft Supplement, USACE, MO, Mississippi River between the Ohio and Missouri Rivers (Regulating Works), Comment Period Ends: 01/18/2017, Contact: Kip Runyon 314-331-8396, Revision to the FR Notice Published 11/04/2016, Extending the Comment Period from 12/19/2016 to 01/18/2017.

Dated: November 21, 2016.
Dawn Roberts,
Management Analyst, NEPA Compliance Division, Office of Federal Activities.

[FR Doc. 2016-28407 Filed 11-23-16; 8:45 am]

BILLING CODE 6560-50-P